DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 84 FR 49535-49540 dated September 20, 2019).

HRSA is making changes within their Healthcare Systems Bureau, Division of National Hansen's Program, to improve the delivery of patient services, increase management and administrative efficiencies, and optimize use of staff resources within the Division.

Specifically this reorganization updates the functions of the Division of National Hansen's Disease Program (RRH).

Chapter RRH—Division of National Hansen's Disease Program

Section RRH.20 Function

Delete the functional statement for the Division of National Hansen's Disease Program (RRH) in its entirety and replace with the following:

Division of National Hansen's Disease Program (RRH)

The National Hansen's Disease Program (NHDP) in accordance with regulations and the Public Health Service (PHS) Act, Sec. 320 as amended by Public Law 105-78, Sec. 211, (1) provides care and treatment for persons with Hansen's Disease (leprosy), including managing a national short-term and outpatient health care delivery program providing specialized services to persons with Hansen's Disease; (2) conducts and promotes the coordination of research (including clinical research), investigations, demonstrations, and studies relating to the causes, diagnosis, treatment, control, and prevention of Hansen's disease and other mycobacterial diseases and complications related to such diseases; (3) conducts training in the diagnosis and management of Hansen's disease and related complications; (4) provides education and training to staff from the outpatient Hansen's Disease Clinics and to private physicians; (5) operates and oversees the National Hansen's Disease Museum and Cemetery; (6) consults on the coordination of activities within HRSA and HHS, and with other federal agencies, state and local governments, and other public and private organizations involved in Hansen's Disease activities; (7) manages a network of contracted outpatient clinics providing care to persons with Hansen's Disease; and (8) manages and coordinates the National Hansen's Disease Program's administrative and operational activities with HRSA and HHS, other federal agencies, state and local governments, and other public and private organizations involved in Hansen's Disease activities.

Section RRH.30, Delegation of Authority

All delegations of authority and re-delegations of authority made to officials and employees of affected organizational components will continue in them or their successors pending further redelegation, if allowed, provided they are consistent with this reorganization.

This reorganization is effective upon date of signature.

(Authority: 44 U.S.C. 3101)

Dated: December 18, 2019.
Thomas J. Engels,
Administrator.

[FR Doc. 2019-28267 Filed 1-3-20; 8:45 am]

BILLING CODE 4165-15-P